DEPARTMENT OF THE INTERIOR

National Park Service

Notice; Correction

AGENCY: National Park Service, Interior.

SUMMARY: The National Park Service published a document in the Federal Register of January 28, 2008, concerning meetings for the NPS Subsistence Resource Commission (SRC) program within the Alaska Region. The notice was incomplete. This notice corrects omissions from the January 28, 2008 notice.

FOR FURTHER INFORMATION CONTACT: Clarence Summers, (907) 644-3603.

Correction

In the Federal Register of January 28, 2008, in FR Doc. 08-336, on page 4916, in the first column, between the first and second “DATES” captions, insert the following:

Lake Clark National Park SRC Meeting

Date: The Lake Clark National Park SRC meeting will be held on Tuesday, February 12, 2008, from 1 p.m. to 5 p.m., Alaska Standard Time.

Location: Lake Clark National Park and Preserve Visitor Center, Port Alsworth, AK.

FOR FURTHER INFORMATION CONTACT: Mary McBurney, Subsistence Manager, telephone: (907) 235-7891, or Joel Hard, Superintendent, and Michelle Ravenmoon, Subsistence Coordinator, telephone: (907) 781-2218, at Lake Clark National Park and Preserve, 1 Park Place, Port Alsworth, AK 99653.

Denali National Park SRC Meeting

Date: The Denali National Park SRC meeting will be held on Monday, March 31, 2008, from 9 a.m. to 5 p.m., Alaska Standard Time.

Location: Cantwell Community Center in Cantwell, AK.

FOR FURTHER INFORMATION CONTACT: Amy Craver, Subsistence Manager, telephone: (907) 683-9544, or Philip Hooge, Assistant Superintendent, telephone: (907) 683-9581, at Denali National Park and Preserve, P.O. Box 9, Denali Park, AK 99755.

Aniakchak National Monument SRC Meeting

Date: The Aniakchak National Monument SRC meeting will be held on Wednesday, March 12, 2008, from 1 p.m. to 5 p.m., Alaska Standard Time.

Location: Chignik Lake Subsistence Building, Chignik Lake, AK.

FOR FURTHER INFORMATION CONTACT: Mary McBurney, Subsistence Manager, telephone: (907) 235-7891, or Ralph Moore, Superintendent, telephone: (907) 246-3305, at Aniakchak National Monument and Preserve, P.O. Box 7, King Salmon, AK 99613.

Cape Krusenstern National Monument SRC Meeting

Date: The Cape Krusenstern National Monument SRC meeting will be held on Thursday, April 3, 2008, from 9 a.m. to 5 p.m., Alaska Standard Time.

Location: U.S. Fish and Wildlife Service Office, Conference Room, Kotzebue, AK.

FOR FURTHER INFORMATION CONTACT: Ken Adkisson, Subsistence Manager, telephone (907) 443-2522, or Willie Goodwin, Subsistence Manager, and George Helfrich, Superintendent, telephone: (907) 442-3890, at Western Arctic Parklands, P.O. Box 1029, Kotzebue, AK 99752.

Kobuk Valley National Park SRC Meeting

Date: The Kobuk Valley National Park SRC will be held on Friday, April 4, 2008, from 9 a.m. to 5 p.m., Alaska Standard Time.

Location: U.S. Fish and Wildlife Service Office, Conference Room, Kotzebue, AK.

FOR FURTHER INFORMATION CONTACT: Ken Adkisson, Subsistence Manager, telephone (907) 443-2522, or Willie Goodwin, Subsistence Manager, and George Helfrich, Superintendent, telephone: (907)442-3890, at Western Arctic Parklands, P.O. Box 1029, Kotzebue, AK 99752.

Dated: February 25, 2008.
Judith C Gottlieb,
Associate Regional Director, Subsistence and Partnerships.

[FR Doc. E8-4041 Filed 2-29-08; 8:45 am]

BILLING CODE 4312-64-P